DEPARTMENT OF TRANSPORTATION

Federal Highway Administration

Notice of Final Federal Agency Actions on Proposed Highways in Colorado

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to various proposed highway projects in the State of Colorado. Those actions grant licenses, permits, and approvals for the projects.

DATES: By this notice, the FHWA is advising the public of final agency actions subject to 23 U.S.C. 139(l)(1). A claim seeking judicial review of the Federal agency actions on any of the listed highway projects will be barred unless the claim is filed on or before October 13, 2015. If the Federal law that authorizes judicial review of a claim provides a time period of less than 150 days for filing such claim, then that shorter time period still applies.

FOR FURTHER INFORMATION CONTACT: Stephanie Gibson, Environmental Program Manager, Federal Highway Administration Colorado Division, 12300 W. Dakota Avenue, Lakewood, Colorado 80228, 720-963-3013, Stephanie.gibson@dot.gov normal business hours are 8:30 a.m. to 5:00 p.m. (Mountain time); You may also contact Vanessa Henderson, NEPA Program Manager, Colorado Department of Transportation, 4201 E. Arkansas Avenue, Shumate Building, Denver, Colorado 80222, 303-757-9878, vanessa.henderson@state.co.us, normal business hours are 7:00 a.m. to 4:30 p.m. (Mountain time).

SUPPLEMENTARY INFORMATION: Notice is hereby given that the FHWA and other Federal agencies have taken final agency actions by issuing licenses, permits, and approvals for the highway projects in the State of Colorado that are listed below. The actions by the Federal agencies on a project, and the laws under which such actions were taken, are described in the environmental assessment (EA) or environmental impact statement (EIS) issued in connection with the project and in other key project documents. The EA or EIS, and other key documents for the listed projects are available by contacting the FHWA or the Colorado Department of Transportation at the addresses provided above. The EA, Finding of No Significant Impact (FONSI), Final EIS, and Record of Decision (ROD) documents can be viewed and downloaded from the Web sites listed below.

This notice applies to all Federal agency decisions on each project as of the issuance date of this notice and all laws under which such actions were taken. This notice does not, however, alter or extend the limitation period of 150 days for challenges to final agency actions subject to previous notices published in the Federal Register, including notice given by the Federal Transit Administration on September 23, 2010 related to U.S. 36 (75 FR 58017).

This notice applies to all Federal agency decisions, actions, approvals, licenses and permits on the project as of the issuance date of this notice, including but not limited to those arising under the following laws, as amended:

1. General: National Environmental Policy Act [42 U.S.C. 4321-4370h]; Federal-Aid Highway Act [23 U.S.C. 109].

2. Air: Clean Air Act, as amended [42 U.S.C. 7401-7671(q)] (transportation conformity).

3. Land: Section 4(f) of the Department of Transportation Act of 1966 [49 U.S.C. 303]; Landscaping and Scenic Enhancement (Wildflowers) [23 U.S.C. 319].

4. Wildlife: Endangered Species Act [16 U.S.C. 1531-1544]; Fish and Wildlife Coordination Act [16 U.S.C. 661-667(e)]; Migratory Bird Treaty Act [16 U.S.C. 703-712].

5. Historic and Cultural Resources: Section 106 of the National Historic Preservation Act of 1966 [54 U.S.C. 306108]; Archaeological Resources Protection Act of 1977 [16 U.S.C. 470aa-470mm]; Archaeological and Historic Preservation Act [16 U.S.C. 469-469c-2]; Native American Grave Protection and Repatriation Act [25 U.S.C. 3001-3013].

6. Social and Economic: Civil Rights Act of 1964 [42 U.S.C. 2000(d)-2000(d)(1)]; American Indian Religious Freedom Act [42 U.S.C. 1996]; Farmland Protection Policy Act [7 U.S.C. 4201-4209]; the Uniform Relocation Assistance and Real Property Acquisition Policies Act of 1970 [42 U.S.C. 61].

7. Wetlands and Water Resources: Clean Water Act [33 U.S.C. 1251-1387] (Section 404, Section 401, Section 319); Land and Water Conservation Fund Act [16 U.S.C. 460l-4-460l-11]; Safe Drinking Water Act [42 U.S.C. 300f-300j-9.]; Rivers and Harbors Act of 1899 [33 U.S.C. 401-406]; Transportation Equity Act for the 21st Century (TEA-21) [23 U.S.C. 103(b)(6)(m), 133(b)(11)] (wetlands mitigation banking); Flood Disaster Protection Act of 1973 [42 U.S.C. 4001-4129].

8. Hazardous Materials: Comprehensive Environmental Response, Compensation, and Liability Act [42 U.S.C. 9601-9675]; Superfund Amendments and Reauthorization Act of 1986 [Pub. L. 99-499]; Resource Conservation and Recovery Act [42 U.S.C. 6901-6992(k)].

9. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

The projects subject to this notice are:

1. SH 9 Iron Springs EA and FONSI. Project Location: Just south of Frisco, CO. Project Reference Number: C0091-041. Project Overview: A 1.3-mile stretch of SH 9, between mileposts 93 and 95, will be realigned, rather than widened on the existing alignment. This will provide a four-lane roadway while removing a tight, compound curve (known as Leslie's Curve) and moving the highway away from Dillon Reservoir, a drinking water source. A portion of the old roadway alignment will be turned into a bike path. Project Purpose: The purpose is to improve transportation along SH 9 by decreasing travel time, improving safety, and supporting the transportation needs of local and regional travelers while minimizing impacts to the surrounding environment and communities between the towns of Frisco and Breckenridge. Signed NEPA Documents and Permits: EA signed on May 6, 2014 and FONSI on December 18, 2014. https://www.codot.gov/projects/hwy9f2b/sh-9-iron-springs-alignment-environmental-assessment.

2. Federal Blvd., 7th to Howard EA and FONSI. Project Location: Denver, CO. Project Reference Number: NHPP 2873-172. Project Overview: This project would widen Federal Boulevard to provide a third northbound lane and standard (11 foot) lane widths. Sidewalks will be brought up to Americans with Disabilities Act standards and existing crosswalks will be upgraded with new traffic and pedestrian signals. Project Purpose: The purpose of the project is to improve safety for all modes of travel (e.g., personal vehicles, transit vehicles, and bicycles as well as foot traffic), improve traffic operations for all traffic modes, reduce existing and future northbound congestion, and enhance multi-modal connectivity. Signed NEPA Documents and Permits: EA signed on October 8, 2014 and FONSI on January 15, 2015. http://www.denvergov.org/infrastructure/policyandplanning/currentprojects/federalboulevard/tabid/442758/default.aspx and https://www.codot.gov/projects/federalea7thtohoward.

3. US 50 West, Purcell Blvd. to Wills Blvd., and McCulloch Blvd. Intersection Improvements EA and FONSI. Project Location: Pueblo, CO. Project Reference Number: STA 050A-022. Project Overview: Highway improvements include adding an additional 3.4-mile eastbound lane to US 50 between Purcell Blvd. and Wills Blvd. Intersection improvements include turn lanes, and deceleration and acceleration lanes. Project Purpose: The purpose is to reduce congestion and improve safety. Signed NEPA Documents and Permits: EA signed on June 3, 2014 and FONSI on September 15, 2014. https://www.codot.gov/library/studies/us50ea.

4. US 24 West EA and FONSI. Project Location: Colorado Springs, CO. Project Reference Number: NH 0242-040. Project Overview: The project encompasses a 4-mile segment of US 24 from Interstate 25 to west of the Manitou Avenue interchange. It includes additional lanes in approximately 1 mile of the project area, bridge replacements on US 24 and cross streets, replacing two intersections with interchanges, closing some access points including replacing one intersection with an overpass, improvements to sidewalks on the north-south cross streets at all intersections and interchanges, and extending the Midland Trail. Project Purpose: The purpose is to reduce congestion problems for travelers today and through the year 2035; improve mobility for local trips within the US 24 corridor and regional trips through the US 24 corridor; and improve connectivity to the multiple destinations accessible from the US 24 corridor. Signed NEPA Documents and Permits: EA signed on May 16, 2012 and FONSI on October 2, 2014. https://www.codot.gov/projects/us24west.

5. US 287 at Lamar Reliever Route EA and FONSI. Project Location: Lamar, CO. Project Reference Number: C2871-026. Project Overview: The project will relocate US 287 and US 50 from downtown Lamar to a new alignment, known as the reliever route, approximately one mile east of Lamar. The new highway will serve as an alternate route around downtown Lamar for non-stop regional truck and automobile traffic. Project Purpose: The purpose is to reduce conflicts between local and through-traffic, improve safety, and meet local, regional, and national travel demands on US 287 and US 50 through Lamar. Signed NEPA Documents and Permits: EA signed on August 15, 2013 and FONSI on November 10, 2014. https://www.codot.gov/projects/us287lamar.

6. US 550/US 160 South Connection SEIS and ROD. Project Location: Durango, CO. Project Reference Number: FC-NH(CX)162-2(048). Project Overview: The project will realign a 1.5-mile portion of US 550 to connect with an interchange on US 160 and widen the road to four lanes. The SEIS focused on this portion of the original 2006 US 160 Durango to Bayfield EIS project, and looked at both previous and new alternatives developed to reduce impacts to historic properties identified after the completion of the previous ROD. Project Purpose: The purpose is to increase travel efficiency/capacity to meet current and future needs, improve safety for the traveling public by reducing the number and severity of crashes, and control access for safety and mobility improvements. Original FEIS signed May 12, 2006, ROD signed November 7, 2006 (claims limitation notice issued May 14, 2007), Signed NEPA Documents and Permits for this notice: SFEIS signed July 2, 2012, Revised Section 4(f) Evaluation signed April 23, 2015, and supplemental ROD signed April 23, 2015. https://www.codot.gov/projects/us550-at-160.

7. US 36 Corridor ROD #2. Project Location: Between Denver and Boulder, CO. Project Reference Number: NH 0361-070. Project Overview: The portion of the project included in ROD #2 includes replacing two bridges and widening two bridges. Project Purpose: The purpose of improvements in the US 36 corridor is to improve mobility along the US 36 corridor from I-25 in Adams County to Foothills Parkway/Table Mesa Drive in Boulder, and among intermediate destinations. FEIS and Final Section 4(f) Evaluation signed October 30, 2009, ROD #1 signed December 24, 2009, and Department of the Army Permit No. 200380602 (claims limitation notice issued April 23, 2012). Signed NEPA Documents and Permits for this notice: FEIS and Final Section 4(f) Evaluation signed October 30, 2009, and ROD #2 signed September 24, 2012. https://www.codot.gov/projects/us36eis.

8. I-25 Valley Highway, Logan to US 6 FEIS, ROD #1 and ROD #2. Project Location: Denver, CO. Project Reference Number: BR 0061-083. Project Overview: The project will provide improvements to: I-25 (the Valley Highway) from Logan Street to US 6; US 6 from I-25 to Federal Boulevard; and on adjacent portions of Santa Fe Drive and Kalamath Street in south central Denver. The improvements would correct geometric deficiencies, add capacity, improve safety, and replace deteriorating structures. Pedestrian/bicycle mobility across the I-25 corridor and access to transit facilities would also be improved. Project Purpose: The purpose is to improve connectivity between transportation modes, improve pedestrian and bicycle mobility across the project corridor, increase safety along and across the corridor for motorists, pedestrians, and bicyclists, and correct roadway deficiencies to provide a safer, more efficient, and more reliable transportation system. Signed NEPA Documents and Permits: FEIS signed November 6, 2006, ROD #1 signed July 5, 2007 and ROD #2 signed February 8, 2013. https://www.codot.gov/library/studies/i-25-valley-highway-EIS.

Authority: 23 U.S.C. 139(l)(1).

John M. Cater,
Division Administrator, Lakewood, Colorado.

[FR Doc. 2015-11641 Filed 5-14-15; 8:45 am]

BILLING CODE 4910-22-P